DEPARTMENT OF COMMERCE

National Oceanic and Atmospheric Administration

50 CFR Part 648

[Docket No. 011004242-2005-02; I.D. 101102E]

Fisheries of the Northeastern United States; Atlantic Surfclam and Ocean Quahog Fishery; Quota Harvested for Maine Mahogany Quahog Fishery

AGENCY: National Marine Fisheries Service (NMFS), National Oceanic and Atmospheric Administration (NOAA), Commerce.

ACTION: Commercial quota harvested for Maine mahogany quahog.

SUMMARY: NMFS announces that the annual quota for the Maine mahogany quahog fishery has been harvested. Commercial vessels operating under a Maine mahogany quahog permit may not harvest Maine mahogany quahogs from the Maine mahogany quahog zone for the remainder of the fishing year (through December 31, 2002). Regulations governing the Maine mahogany quahog fishery require publication of this notification to advise the public of this closure.

DATES: Effective 0001 hrs local time, October 24, 2002, through 2400 hrs local time, December 31, 2002.

FOR FURTHER INFORMATION CONTACT: Douglas W. Christel, 978-281-9141; fax 978-281-9135; e-mail Douglas.Christel@noaa.gov.

SUPPLEMENTARY INFORMATION: The regulations governing the Maine mahogany quahog fishery appear at 50 CFR part 648. The regulations establish the annual quota for the harvest of mahogany quahogs within the Maine mahogany quahog zone at 100,000 Maine bushels (35,150 hL). The quota may be revised annually by the Mid-Atlantic Fishery Management Council (Council) within the range of 17,000 and 100,000 Maine bu (5,975 and 35,150 hL, respectively). The Maine mahogany quahog zone is defined as the area bounded on the east by the U.S.-Canada maritime boundary, on the south by a straight line at 43 50' N. lat., and on the north and west by the shoreline of Maine.

The Administrator, Northeast Region, NMFS (Regional Administrator) monitors the commercial Maine mahogany quahog quota for each fishing year using dealer and other available information to determine when the quota is projected to have been harvested. NMFS is required to publish a notification in the Federal Register notifying commercial vessel permit holders that, effective upon a specific date, the Maine mahogany quahog quota has been harvested and no commercial quota is available for harvesting mahogany quahogs by vessels possessing a Maine mahogany quahog permit for the remainder of the year, from within the Maine mahogany quahog area.

The Regional Administrator has determined, based upon dealer reports and other available information, that the 2002 Maine mahogany quahog quota has been harvested. Therefore, effective 0001 hrs local time, October 24, 2002, further landings of Maine mahogany quahogs harvested from within the Maine mahogany quahog area by vessels possessing a Maine mahogany quahog Federal fisheries permit are prohibited through December 31, 2002. The 2003 fishing year for Maine mahogany quahog harvest will open on January 1, 2003.

Classification

This action is required by 50 CFR part 648 and is exempt from review under Executive Order 12866.

Authority: 16 U.S.C. 1801 et seq.

Dated: October 15, 2002.
Bruce C. Morehead,
Acting Director, Office of Sustainable Fisheries, National Marine Fisheries Service.

[FR Doc. 02-26694 Filed 10-16-02; 3:59 pm]

BILLING CODE 3510-22-S